HARRY S. TRUMAN SCHOLARSHIP FOUNDATION

45 CFR Part 1801

Harry S. Truman Scholarship Regulations

AGENCY: Harry S. Truman Scholarship Foundation.

ACTION: Final rule.

SUMMARY: The following are the regulations governing the annual competition for Harry S. Truman Scholarships and the disbursement of Scholar payments. The regulations reflect modifications in the program adopted by the Harry S. Truman Scholarship Foundation on November 2, 2000. Modifications were made to clarify and make explicit policies of the Foundation in administering the Truman Scholarship Program.

This regulation describes the procedures to be followed by individuals who apply for or receive Harry S. Truman Scholarships and educational institutions which nominate Scholarship applicants, as well as the procedures the Foundation follows in selecting Truman Scholars and in administering scholarships.

EFFECTIVE DATE: January 19, 2001.

ADDRESSES: Harry S. Truman Scholarship Foundation, 712 Jackson Place, N.W., Washington, D.C. 20006.

FOR FURTHER INFORMATION CONTACT: Louis H. Blair, (202) 395-4831. E-mail, lblair@truman.gov.

SUPPLEMENTARY INFORMATION:

OMB has determined that this regulation is not a significant action requiring its review under Executive Order 12866. I hereby certify that this regulation does not apply to small businesses, and thus will have no significant economic impact on a substantial number of small entities within the meaning of the Small Business Regulatory Enforcement Fairness Act of 1996. This regulation relates to the Foundation's management and procedures, and thus is not a “rule” within the meaning of the Congressional Review Act, 5 U.S.C. et seq.

List of Subjects in 45 CFR Part 1801

Grant programs—education, Scholarships and fellowships.

Chapter XVIII, title 45 of the Code of Federal Regulations is amended by revising Part 1801 to read as follows:

PART 1801—HARRY S. TRUMAN SCHOLARSHIP PROGRAM

Subpart A—General
Sec.
1801.1 Annual Truman Scholarship competition.
1801.2 Truman Scholars are selected from qualified applicants from each State.
1801.3 Students eligible for nomination.
1801.4 Definitions.
Subpart B—Nominations
1801.10 Nomination by institution of higher education.
1801.11 Annual nomination.
1801.12 Institutions with more than one campus.
1801.13 Two-year institutions.
1801.14 Faculty Representative.
1801.15 Submission of application to the Foundation.
1801.16 Closing date for receipt of nominations.
1801.17 Contents of application.
1801.18 Limitations on nominations.
Subpart C—The Competition
1801.20 Selection of finalists.
1801.21 Evaluation criteria.
1801.22 Interview of finalists with panel.
1801.23 Recommendation by panel.
1801.24 Selection of Truman Scholars by the Foundation.
Subpart D—Graduate Study
1801.30 Continuation into graduate study.
1801.31 Approval of graduate programs by the Foundation.
1801.32 Eligible institutions and degree programs.
Subpart E—Payments to finalists and Scholars
1801.40 Travel expenses of finalists.
1801.41 Scholarship stipends.
1801.42 Definition of “fee”.
1801.43 Allowance for books.
1801.44 Allowance for room and board.
1801.45 Deduction for benefits from other sources.
Subpart F—Payment Conditions and Procedures
1801.50 Acceptance of the scholarship.
1801.51 Report at the beginning of each term.
1801.52 Payment schedule.
1801.53 Postponement of payment.
1801.54 Annual report.
Subpart G—Duration of Scholarship
1801.60 Renewal of scholarship.
1801.61 Termination of scholarship.
1801.62 Recovery of scholarship funds.

Authority: Pub. L. 93-642, 88 Stat. 2276 (20 U.S.C. 2001-2012).

Subpart A—General

§ 1801.1 Annual Truman Scholarship competition.

Each year, the Harry S. Truman Scholarship Foundation carries out a nationwide competition to select students to be Truman Scholars.

§ 1801.2 Truman Scholars are selected from qualified applicants from each State.

(a) At least one Truman Scholar is selected each year from each State in which there is a resident applicant who meets minimum eligibility criteria as established by the Foundation. These minimum eligibility criteria are stated in §§ 1801.3, 1801.21 and 1801.23.

(b) As used in this part, State means each of the States, the District of Columbia, the Commonwealth of Puerto Rico, and considered as a single entity: Guam, the Virgin Islands, American Samoa, and the Commonwealth of the Northern Mariana Islands (The Islands).

§ 1801.3 Students eligible for nomination.

A student is eligible to be nominated for a Truman Scholarship if he or she:

(a) Is a junior-level student pursuing a bachelor's degree as a full-time student at an accredited institution of higher education and will receive a baccalaureate degree the following academic year; or, is a full-time senior level student from the Commonwealth of Puerto Rico or from The Islands;

(b) Has an undergraduate field of study that permits admission to a graduate program leading to a career in public service;

(c) Ranks in the upper quarter of his or her class; and

(d) Is a U.S. citizen, a U.S. national, or a permanent resident of the Commonwealth of the Northern Mariana Islands.

§ 1801.4 Definitions.

As used in this part:

Academic year means the period of time, typically 8 or 9 months in which a full-time student would normally complete two semesters, three quarters, or the equivalent.

Foundation means the Harry S. Truman Scholarship Foundation.

Full-time student means a student who is carrying a sufficient number of credit hours or their equivalent to secure the degree or certificate toward which he or she is working, in no more time than the length of time normally taken at his or her institution.

Graduate study means the courses of study beyond the baccalaureate level which lead to an advanced degree.

Institution means an institution of higher education. “Institution of higher education” has the meaning given in section 1201(a) of the Higher Education Act of 1965 (20 U.S.C. 1141 (a)).

Junior means a student who, following completion of the current academic year, has one more year of full-time course work to receive a baccalaureate degree.

President means the principal official responsible for the overall direction of the operations of an institution.

Public service means employment in: government at any level, the uniformed services, public interest organizations, non-governmental research and/or educational organizations, public and private schools, and public service oriented non-profit organizations such as those whose primary purposes are to help needy or disadvantaged persons or to protect the environment.

Resident means a person who has legal residence in the State, recognized under State law. If a question arises concerning the State of residence, the Foundation determines, for the purposes of this program of which State the person is a resident, taking into account place of registration to vote, family's place of residence, home address listed for school registration, and eligibility for “in-State” tuition rates at public institutions of higher education.

Scholar means a person who has been selected by the Foundation as a Truman Scholar, has accepted the Scholarship and agreed to the conditions of the award, and is eligible for Scholarship stipend(s).

Senior means a student who is in his or her last year of study before receiving a baccalaureate degree.

Term means the period which the institution uses to divide its academic year: semester, trimester, or quarter.

Subpart B—Nominations

§ 1801.10 Nomination by institution of higher education.

To be considered in the competition a student must be nominated by the institution that he or she attends.

§ 1801.11 Annual nomination.

(a) Except as provided in §§ 1801.11 (b), 1801.12, and 1801.24, each institution may nominate up to four students annually. Additionally, a four-year institution may nominate up to three currently enrolled juniors who completed their first two college years at a two-year institution. Nominees may have legal residence in the same State as the institution or in different States.

(b) The Foundation may announce each year in its Bulletin of Information or on its website (http://www.truman.gov) special circumstances under which an institution may nominate additional candidates.

(c) All nominations must be made by the President of the institution or the designated Faculty Representative.

§ 1801.12 Institutions with more than one campus.

If an institution has more than one component separately listed in the current edition of the Directory of Postsecondary Institutions published by the U.S. Department of Education, each component will be considered to be a separate institution under this regulation, and each may nominate up to four students. However, a component that is organized solely for administrative purposes and has no students may not nominate a student.

§ 1801.13 Two-year institutions.

If an institution does not offer education beyond the sophomore level, the institution may nominate only students who have completed two years at that institution and who are currently enrolled as full-time juniors at accredited four-year institutions. Faculty Representatives at two-year institutions may submit the materials directly to the Foundation or they may forward the nomination materials to the Faculty Representative of the four-year institution attended by the nominee.

§ 1801.14 Faculty Representative.

(a) Each institution which nominates a student must give the Foundation the name, business address, and business telephone number of a member of the faculty or administrator who will serve as liaison between the institution and the Foundation.

(b) The Faculty Representative is responsible for a timely submission of all nominations and supporting documentation.

(c) The Foundation delegates the responsibility to the Faculty Representative to establish a process to publicize the scholarship, recruit candidates, select nominees, and assist nominees.

§ 1801.15 Submission of application to the Foundation.

To nominate a student for the competition, the Faculty Representative must submit the completed nomination packet to the Foundation as provided in § 1801.16. The Foundation does not accept nominations packets directly from students.

§ 1801.16 Closing date for receipt of nominations.

The Foundation announces in its Bulletin of Information and in the Federal Register and posts on its website (http://www.truman.gov) the date and address at which the Foundation must receive nominations. Nominations not received by this date at the address specified will not be considered.

§ 1801.17 Contents of application.

(a) The Foundation provides a form that must be used as the application.

(b) Each application must include the following:

(1) A certification of nomination and eligibility signed by the Faculty Representative;

(2) A completed Truman Scholarship Application signed by the nominee;

(3) A policy proposal written by the nominee;

(4) A current official college transcript; and

(5) A letter of nomination from the Faculty Representative and three letters of recommendation.

§ 1801.18 Limitations on nominations.

A candidate nominated by an institution and not selected as a Truman Scholar may not be renominated the following year.

Subpart C—The Competition

§ 1801.20 Selection of Finalists.

The Foundation selects Finalists from the students who are nominated.

§ 1801.21 Evaluation criteria.

(a) The Foundation appoints a committee to select finalists from the students nominated on the basis of the following criteria:

(1) Extent and quality of community service and government involvement;

(2) Leadership record;

(3) Academic performance and writing and analytical skills; and

(4) Suitability of the nominee's proposed program of study and its appropriateness for a leadership career in public service.

(b) The Foundation selects Finalists solely on the basis of the information required under § 1801.17.

§ 1801.22 Interview of Finalists with panel.

The Foundation invites each Finalist to an interview with a regional review panel. Panels evaluate Truman Finalists primarily on:

(a) Leadership potential and communication skills;

(b) Likelihood of “making a difference” in public service; and

(c) Intellectual strength, analytical abilities, and prospects of performing well in graduate school.

§ 1801.23 Recommendation by panel.

(a) Each Panel is asked to recommend to the Board of Trustees the name of one candidate from each state in the region to be appointed as a Truman Scholar. The Foundation may authorize each regional review panel to recommend additional Scholars from the States in its region.

(b) A panel's recommendations are based on the material required under § 1801.17 and, as determined in the interview, the panel's assessment of each Finalist in terms of criteria presented in § 1801.22.

(c) In the event that a regional review panel determines that none of the Finalists from a state meets all the requirements expected of a Truman Scholar, it does not provide a recommendation. The Foundation will carry over the Scholarship for that state making two Scholarships available the following year.

§ 1801.24 Selection of Truman Scholars by the Foundation.

The Foundation names Truman Scholars after receiving recommendations from the regional review panels.

Subpart D—Graduate Study

§ 1801.30 Continuation into graduate study.

(a) Only Scholars who satisfactorily complete their undergraduate education and who comply with § 1801.31 shall be eligible for continued Foundation support for an approved program of graduate study.

(b) The Foundation does not conduct a competition for graduate scholarships and does not add new Truman Scholars at the graduate level.

§ 1801.31 Approval of graduate programs by the Foundation.

(a) By December 1, Scholars desiring Foundation support for graduate study the following academic year must submit a proposed program of graduate study to the Foundation for approval. The graduate program proposed for approval may differ from that proposed by the Scholar when nominated for a Truman Scholarship. Factors to be used by the Foundation in considering approval include being consistent with:

(1) Field of study initially proposed in the Scholar's Application;

(2) Graduate school programs given priority in the current Bulletin of Information;

(3) Undergraduate educational program and work experience of the Scholar; and

(4) Preparation specifically for a career in public service.

(b) Foundation approval in writing of the Scholar's proposal is required before financial support is granted for graduate work.

(c) Scholars must include in their submission to the Foundation a statement of interest in a career in public service that specifies in detail how their graduate program and their overall educational and work experience plans will realistically prepare them for their chosen career goal in government or elsewhere in public service.

(d) After completing his or her undergraduate studies, a Scholar each year may request in writing a deferral of support for graduate studies. Deferrals must be requested no later than June 15 for the succeeding academic year. Scholars failing to request a year's deferral and to receive written approval from the Foundation may lose one year of funding support for each year for which they fail to request and receive deferrals. Total deferrals may not exceed four years unless an extension is granted in writing by the Foundation.

§ 1801.32 Eligible institutions and degree programs.

(a) Truman Scholars at the graduate level may use Foundation support to study at any accredited college or university in the United States or abroad that offers graduate study appropriate and relevant to their public service career goals.

(b) They may enroll in any relevant graduate program for a career in public service.

(c) Foundation support for graduate study is restricted to three years of full-time study.

Subpart E—Payments to Finalists and Scholars

§ 1801.40 Travel expenses of finalists.

The Foundation will provide partial funding for intercity round-trip transportation from the finalist's nominating institution to the interview site. The Foundation does not reimburse finalists for lodging, meals, local transportation, or other expenses. The Foundation announces the terms and conditions of support on its website (http://www.truman.gov) and in the Bulletin of Information.

§ 1801.41 Scholarship stipends.

The Scholarship stipend may be used only for eligible expenses in the following categories: tuition, fees, books, and room and board. Payments from the Foundation may be received to supplement, but not to duplicate, benefits received by the Scholar from the educational institution or from other foundations or organizations. The designated benefits received from all sources combined may not exceed the costs of tuition, fees, books, and room and board as determined by the Foundation. The Foundation's Bulletin of Information, current at the time of the Scholar's selection, contains additional information about the terms and conditions of scholarship support.

§ 1801.42 Definition of “fee”.

As used in this part, fee means a typical and usual non-refundable charge by the institution for a service, a privilege, or the use of property which is required for a Scholar's enrollment and registration.

§ 1801.43 Allowance for books.

The cost allowance for a Scholar's books is $1000 per year, or such higher amount published on the Foundation's website (http://www.truman.gov).

§ 1801.44 Allowance for room and board.

The cost allowed for a Scholar's room and board is the amount the institution reports to the Foundation as the average cost of room and board for the Scholar's institution, given the type of housing the Scholar occupies.

§ 1801.45 Deduction for benefits from other sources.

The cost allowed for a Scholar's tuition, fees, books, room and board must be reduced to the extent that the cost is paid by another organization, or provided for or waived by the Scholar's institution.

Subpart F—Payment Conditions and Procedures

§ 1801.50 Acceptance of the scholarship.

To receive any payment, a Scholar must sign an acceptance of the scholarship and acknowledgement of the conditions of the award and submit it to the Foundation.

§ 1801.51 Report at the beginning of each term.

(a) To receive a Scholarship stipend, a Scholar must submit a current transcript and Payment Request Form containing the following:

(1) A statement of the Scholar's costs for tuition, fees, books, room and board;

(2) A certification by an authorized official of the institution that the Scholar is a full-time student and is taking a course of study, training, or other educational activities to prepare for a career in public service; and is not engaged in gainful employment that interferes with the Scholar's studies; and

(3) A certification by an authorized official of the institution of whether the Scholar is in academic good standing.

(b) At the beginning of each academic year, the Scholar must have his or her institution submit a certified Educational Expense Form containing the following:

(1) A certification by an authorized official of the institution that the Scholar's statement of costs for tuition, fees, books, room and board and other expenses required for the academic year is accurate; and

(2) A certification of the amounts of those costs that are paid or waived by the institution or paid by another organization.

§ 1801.52 Payment schedule.

The Foundation will pay the Scholar a portion of the award of the Scholarship stipend (as described in the Foundation's Bulletin of Information) after each report submitted under § 1801.51.

§ 1801.53 Postponement of payment.

(a) A Scholar may request the Foundation to postpone one or more payments because of sickness or other circumstances.

(b) If the Foundation grants a postponement, it may impose conditions as it deems appropriate.

§ 1801.54 Annual report.

(a) Scholars with remaining eligibility for scholarship stipends must submit no later than July 15 an annual report to the Foundation.

(b) The annual report should be in narrative form and cover: courses taken and grades earned; courses planned for the coming year if Foundation support will be requested; public service and school activities; part-time or full-time employment and summer employment or internships; and achievements, awards and recognition, publications or significant developments.

(c) Newly selected Scholars are required to submit by the July 15 following their selection an annual report updating the Foundation on their activities and accomplishments since the time they submitted their applications for the Truman Scholarship.

Subpart G—Duration of Scholarship

§ 1801.60 Renewal of scholarship.

It is the intent of the Foundation to provide scholarship awards for a period not to exceed a total of four academic years, only in accordance with the regulations established by its Board of Trustees, and subject to an annual review for compliance with the requirements of this part.

§ 1801.61 Termination of scholarship.

(a) The Foundation may suspend or terminate a scholarship under the following specific conditions:

(1) Unsatisfactory academic performance for two terms, failure to pursue preparation for a career in public service, or loss of interest in a career in public service;

(2) Failure to meet the criteria in § 1801.3(d), § 1801.30(a) § 1801.31(a) and (b), or § 1801.51;

(3) Failure to submit a report or request required by the Foundation or providing false, misleading, or materially incomplete information on any report, payment request or other submission to the Foundation; or

(4) Failure to begin use of the graduate portion of the scholarship within four years of the date of receipt of a baccalaureate degree unless granted an extension in writing by the Foundation.

(b) Before it terminates a scholarship, the Foundation will notify the Scholar of the proposed action and will provide an opportunity to be heard with respect to the grounds for termination.

§ 1801.62 Recovery of scholarship funds.

(a) When a Truman Scholarship is terminated for any reason, the Scholar must return to the Foundation any stipend funds which have not yet been spent or which the Scholar may recover.

(b) A Scholar who fails for any reason to complete, as a full-time student, a school term for which he or she has received a Foundation stipend, must return the amount of that stipend to the Foundation. The Foundation may waive this requirement upon application by the Scholar showing good cause for doing so.

Dated: December 14, 2000.
Louis H. Blair,
Executive Secretary.

[FR Doc. 00-32638 Filed 12-22-00; 8:45 am]

BILLING CODE 6820-AB-P